DEPARTMENT OF JUSTICE

Notice of Lodging of Consent Decree Under the Comprehensive Environmental Response, Compensation, and Liability Act

Pursuant to 28 CFR 50.7, notice is hereby given that on September 2, 2003, a proposed Consent Decree in United States v. Bollman Trucking Company, Christiana Motor Freight Company, and F & H Transport Inc., Civil Action No. 03-849 was lodged with the United States District Court for the District of Delaware.

In this action the United States sought injunctive relief and response costs from Bollman Trucking Company, Christiana Motor Freight Company, and F & H Transport Inc. (“Settling Defendants”), in connection with the Halby Chemical Superfund Site in Wilmington, New Castle County, Delaware (“the Halby Site”). The Consent Decree requires that the Settling Defendants pay a total of $75,000 in reimbursement of response costs relating to the Halby Site.

The Department of Justice will receive for a period of thirty (30) days from the date of this publication comments relating to the Consent Decree. Please address comments to the Assistant Attorney General, Environmental and Natural Resources Division, P.O. Box 7611, U.S. Department of Justice, Washington, DC 20044-7611, and refer to United States v. Bollman Trucking Company, Christiana Motor Freight Company, and F & H Transport Inc., D.J. Ref. 90-11-2-719/3.

The Consent Decree may be examined at the Office of the United States Attorney for the District of Delaware, 1201 Market Street, Suite 1100, Wilmington, DE 19899-2046 and at U.S. EPA Region III, 1650 Arch Street, Philadelphia, PA 19103. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.00 for the Consent Decree only or $42.75 for the Consent Decree and attachments (25 cents per page reproduction cost) payable to the U.S. Treasury.

Robert Brook,
Assistant Chief, Environmental Enforcement Section, Environment and Natural Resources Division.

[FR Doc. 03-23790 Filed 9-17-03; 8:45 am]

BILLING CODE 4410-15-M